DEPARTMENT OF COMMERCE

International Trade Administration

[A-533-824]

Polyethylene Terephthalate Film, Sheet and Strip From India: Extension of Time Limit for Preliminary Results of Antidumping Duty New Shipper Review

AGENCY: Import Administration, International Trade Administration, Department of Commerce.

DATES: Effective Date: December 22, 2010.

FOR FURTHER INFORMATION CONTACT: Elfi Blum and Toni Page, Import Administration, International Trade Administration, U.S. Department of Commerce, 14th Street and Constitution Avenue, NW., Washington, DC 20230; telephone: (202) 482-0197 and (202) 482-1398, respectively.

Background

On March 2, 2010, the Department of Commerce (the Department) initiated a new shipper review of the antidumping duty order on polyethylene terephthalate film, sheet and strip from India for the period July 1, 2009, through December 31, 2009. See Polyethylene Terephthalate Film, Sheet and Strip from India: Initiation of Antidumping Duty and Countervailing Duty New Shipper Reviews, 75 FR 10758 (March 9, 2010). This new shipper review covers one producer and exporter of the subject merchandise to the United States: SRF Limited. On August 18, 2010, the Department extended the deadline for the preliminary results for this new shipper review until October 22, 2010. See Polyethylene Terephthalate Film, Sheet and Strip from India: Extension of Time Limit for Preliminary Results of Antidumping Duty New Shipper Review, 75 FR 52717 (August 27, 2010) (First Extension). On October 18, 2010, the Department decided to further extend the deadline for the preliminary results to December 16, 2010. See Polyethylene Terephthalate Film, Sheet and Strip From India: Extension of Time Limit for Preliminary Results of Antidumping Duty New Shipper Review, 75 FR 65450 (October 25, 2010) (Second Extension).

Extension of Time Limit for the Preliminary Results

Section 751(a)(2)(B)(iv) of the Tariff Act of 1930, as amended (the Act), and 19 CFR 351.214(i)(1) require the Department to issue the preliminary results of review within 180 days after the date on which the new shipper review was initiated, and final results of the review within 90 days after the date on which the preliminary results were issued. However, if the Department concludes that a new shipper review is extraordinarily complicated, section 751(a)(2)(B)(iv) of the Act and 19 CFR 351.214(i)(2) allow the Department to extend the 180-day period to 300 days, and to extend the 90-day period to 150 days. In the First Extension and the Second Extension, the Department determined that this new shipper review is extraordinarily complicated because of issues pertaining to the bona fides of the new shipper and SRF Limited's reported sales data. See First Extension, 75 FR at 52717; Second Extension, 75 FR at 65450. The Department finds that it needs additional time to analyze methodological issues related to SRF Limited's reported sales data, and is fully extending the deadline for completion of the preliminary results of this new shipper review, in accordance with section 751(a)(2)(B)(iv) of the Act and 19 CFR 351.214(i)(2). Accordingly, the deadline for the completion of the preliminary results is now December 27, 2010.

This notice is issued and published pursuant to sections 751(a)(2)(B)(iv) and 777(i)(1) of the Act.

Dated: December 16, 2010.
Christian Marsh,
Deputy Assistant Secretary for Antidumping and Countervailing Duty Operations.

[FR Doc. 2010-32168 Filed 12-21-10; 8:45 am]

BILLING CODE 3510-DS-P